DEPARTMENT OF DEFENSE

Department of the Air Force

Notice To Extend the Public and Agency Scoping Period for the Initial F-22 Operational Beddown Environmental Impact Statement (EIS)

The United States Air Force is issuing this notice to advise the public of its decision to extend the public and agency scoping period for the preparation of the Draft EIS which will assess the potential environmental impacts of a proposal to beddown the initial F-22 Operational Wing.

The comment period for scoping related comments has been extended to September 30, 2000 to ensure sufficient time to consider public and agency comments in the screening process and preparation of the Draft EIS. Comments should be submitted to the address below. HQ ACC/CEVP, 129 Andrews Street, Suite 102, Langley AFB, VA 23665-2769, Attn: Ms. Brenda Cook.

Janet A. Long,
Air Force Federal Register Liaison Officer.

[FR Doc. 00-15128 Filed 6-14-00; 8:45 am]

BILLING CODE 5001-05-U